DEPARTMENT OF COMMERCE

International Trade Administration

Renewable Energy and Energy Efficiency Advisory Committee: Open Meeting by Teleconference

AGENCY: International Trade Administration, Commerce.

ACTION: Notice of an open meeting by teleconference.

SUMMARY: The Renewable Energy and Energy Efficiency Advisory Committee (RE&EEAC) will hold a meeting by teleconference on Tuesday, January 13, 2015. The meeting is open to the public and the call-in information will be provided upon request.

DATES: January 13, 2015, from 1 p.m. to 2 p.m. Eastern Standard Time (EST). Members of the public wishing to participate in the teleconference must notify Andrew Bennett at the contact information below by 5 p.m. EST on Friday, January 9, 2015, in order to pre-register for access to the teleconference line and to receive relevant information in advance of the meeting.

FOR ALL FURTHER INFORMATION CONTACT: Including Teleconference Access: Andrew Bennett, Office of Energy and Environmental Industries (OEEI), International Trade Administration, U.S. Department of Commerce at (202) 482-5235; email: Andrew.Bennett@trade.gov.

SUPPLEMENTARY INFORMATION: Background: The Secretary of Commerce established the RE&EEAC pursuant to his discretionary authority and in accordance with the Federal Advisory Committee Act (5 U.S.C. App.) on July 14, 2010. The RE&EEAC was re-chartered on June 12, 2014. The RE&EEAC provides the Secretary of Commerce with consensus advice from the private sector on the development and administration of programs and policies to enhance the international competitiveness of the U.S. renewable energy and energy efficiency industries.

During the January 13th teleconference meeting of the RE&EEAC, committee members will discuss priority issues identified in advance by the interim Sub-Committee for Organization and Priority Issues. The meeting will be open to the public and individuals wishing to join the meeting and receive call-in information may contact the Committee's Designated Federal Officer, Andrew Bennett, Office of Energy and Environmental Industries (OEEI), International Trade Administration, U.S. Department of Commerce at (202) 482-5235; email: Andrew.Bennett@trade.gov.

A limited amount of time before the close of the meeting will be available for pertinent oral comments from members of the public joining the conference call. To accommodate as many speakers as possible, the time for public comments will be limited to two minutes per person. Individuals wishing to reserve additional speaking time during the meeting must contact Mr. Bennett and submit a brief statement of the general nature of the comments, as well as the name and address of the proposed participant by 5 p.m. EST on Friday, January 9, 2015. If the number of registrants requesting to make statements is greater than can be reasonably accommodated during the teleconference, the International Trade Administration may conduct a lottery to determine the speakers. Speakers are requested to submit a copy of their oral comments by email to Mr. Bennett for distribution to the participants in advance of the teleconference.

Any member of the public may submit pertinent written comments concerning the RE&EEAC's affairs at any time before or after the meeting. Comments may be submitted to the Renewable Energy and Energy Efficiency Advisory Committee, c/o: Andrew Bennett, Office of Energy and Environmental Industries, U.S. Department of Commerce, Mail Stop: 4053, 1401 Constitution Avenue NW., Washington, DC 20230. To be considered during the teleconference, written comments must be received no later than 5 p.m. EST on Friday, January 9, 2015, to ensure transmission to the Committee prior to the teleconference. Comments received after that date will be distributed to the members but may not be considered on the teleconference.

Copies of RE&EEAC meeting minutes will be available within 30 days following the meeting.

Dated: December 19, 2014.
Edward A. O'Malley,
Director, Office of Energy and Environmental Industries.

[FR Doc. 2014-30251 Filed 12-23-14; 8:45 am]

BILLING CODE 3510-DR-P